DEPARTMENT OF TRANSPORTATION

Federal Aviation Administration

14 CFR Part 39

[Docket No. FAA-2005-20406; Directorate Identifier 2002-NM-242-AD; Amendment 39-14270; AD 2005-19-05]

RIN 2120-AA64

Airworthiness Directives; Aerospatiale Model ATR42-500 Airplanes

AGENCY: Federal Aviation Administration (FAA), Department of Transportation (DOT).

ACTION: Final rule; request for comments.

SUMMARY: The FAA is adopting a new airworthiness directive (AD) for certain Aerospatiale Model ATR42-500 airplanes. This AD requires inspecting for correct installation of the fastener that attaches the ground braids on the elevator, modifying the forward bonded assembly of the elevator control rod, and corrective action if necessary. This AD results from a functional test of the elevator trim tab control rod of the leading edge, which showed that, in a full-up elevator condition with the tab fully down, interference could occur between the tab control rod and the forward edge of the lower skin of the elevator. We are issuing this AD to prevent discrepancies between the elevator trim tab control rod and the forward edge of the lower skin of the elevator, which could result in reduced control of the elevator and consequent reduced controllability of the airplane.

DATES: Effective September 29, 2005.

The Director of the Federal Register approved the incorporation by reference of certain publications listed in the AD as of September 29, 2005.

We must receive comments on this AD by November 14, 2005.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

Contact Aerospatiale, 316 Route de Bayonne, 31060 Toulouse, Cedex 03, France, for service information identified in this AD.

FOR FURTHER INFORMATION CONTACT: Dan Rodina, Aerospace Engineer, International Branch, ANM-116, Transport Airplane Directorate, FAA, 1601 Lind Avenue, SW., Renton, Washington 98055-4056; telephone (425) 227-2125; fax (425) 227-1149.

SUPPLEMENTARY INFORMATION:

Discussion

The Direction Générale de l'Aviation Civile (DGAC), which is the airworthiness authority for France, notified us that an unsafe condition may exist on certain Aerospatiale Model ATR42-500 airplanes. The DGAC advises that a functional test of the elevator trim tab control rod of the leading edge showed that, in a full-up elevator condition with the tab fully down, interference could occur between the tab control rod and the forward edge of the lower skin of the elevator. The ground point of the elevator interferes with the tab control rod. Additionally, a possible contact between the tab control rod and the clamping of an electrical bonding lead installed on the lower skin of the elevator was found, which was caused by a mislocated fastener. This contact could prevent the elevator from reaching the upper stop and lead to potential tab damage. These conditions, if not corrected, could result in reduced control of the elevator and consequent reduced controllability of the airplane.

Relevant Service Information

Aerospatiale has issued Avions de Transport Regional Service Bulletin ATR42-55-0009, dated July 12, 2002. The service bulletin describes procedures for modifying the forward bonded assembly of the elevator trim tab control rod.

Aerospatiale has also issued Avions de Transport Regional Service Bulletin ATR42-55-0010, Revision 1, dated March 11, 2003. The service bulletin describes procedures for inspecting for correct installation of the fastener that attaches the ground braids on the elevator, and corrective action if necessary. The corrective action includes correctly installing any misaligned attachment fasteners.

Accomplishing the actions specified in the service information is intended to adequately address the unsafe condition. The DGAC mandated the service information and issued French airworthiness directive 2002-431(B), dated August 21, 2002, to ensure the continued airworthiness of these airplanes in France.

FAA's Determination and Requirements of this AD

This airplane model is manufactured in France and is type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for products of this type design that are certificated for operation in the United States.

Therefore, we are issuing this AD to prevent discrepancies between the elevator trim tab control rod and the forward edge of the elevator skin, which could result in reduced control of the elevator and consequent reduced controllability of the airplane. This AD requires accomplishing the actions specified in the service information described previously, except as discussed under “Difference Between French Airworthiness Directive and This AD.”

Difference Between French Airworthiness Directive and This AD

The applicability of the French airworthiness directive excludes airplanes that accomplished ATR Service Bulletin ATR42-55-0009 in service. However, we have not excluded those airplanes in the applicability of this proposed AD; rather, this proposed AD includes a requirement to accomplish the actions specified in that service bulletin. This requirement would ensure that the actions specified in the service bulletin and required by this proposed AD are accomplished on all affected airplanes. Operators must continue to operate the airplane in the configuration required by this proposed AD unless an alternative method of compliance is approved. This difference has been coordinated with the DGAC.

Clarification of Inspection Terminology

In this AD, the “inspection” specified in the French airworthiness directive and Service Bulletin ATR42-55-0010 is referred to as a “detailed inspection.” We have included the definition for a detailed inspection in a note in the AD.

Costs of Compliance

None of the airplanes affected by this action are on the U.S. Register. All airplanes affected by this AD are currently operated by non-U.S. operators under foreign registry; therefore, they are not directly affected by this AD action. However, we consider this AD necessary to ensure that the unsafe condition is addressed if any affected airplane is imported and placed on the U.S. Register in the future.

If an affected airplane is imported and placed on the U.S. Register in the future, the required actions would take about 20 work hours per airplane, at an average labor rate of $65 per work hour. Based on these figures, the estimated cost of the AD would be $1,300 per airplane.

FAA's Determination of the Effective Date

No airplane affected by this AD is currently on the U.S. Register. Therefore, providing notice and opportunity for public comment is unnecessary before this AD is issued, and this AD may be made effective in less than 30 days after it is published in the Federal Register.

Comments Invited

This AD is a final rule that involves requirements that affect flight safety and was not preceded by notice and an opportunity for public comment; however, we invite you to submit any relevant written data, views, or arguments regarding this AD. Send your comments to the address listed under the ADDRESSES section. Include “Docket No. FAA-2005-20406; Directorate Identifier 2002-NM-242-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-19-05 Aerospatiale: Amendment 39-14270. Docket No. FAA-2005-20406; Directorate Identifier 2002-NM-242-AD.

Effective Date

(a) This AD becomes effective September 29, 2005.

Affected ADs

(b) None.

Applicability

(c) This AD applies to Aerospatiale Model ATR42-500 airplanes, certificated in any category, that are not modified by ATR Modification 5385.

Unsafe Condition

(d) This AD results from a functional test of the elevator trim tab control rod of the leading edge, which showed that, in a full-up elevator condition with the tab fully down, interference could occur between the tab control rod and the forward edge of the lower skin of the elevator. The FAA is issuing this AD to prevent discrepancies between the elevator trim tab control rod and the forward edge of the lower skin of the elevator, which could result in reduced control of the elevator and consequent reduced controllability of the airplane.

Compliance

(e) You are responsible for having the actions required by this AD performed within the compliance times specified, unless the actions have already been done.

Inspection/Modification

(f) Within 48 months after the effective date of this AD: Do the actions required by paragraphs (f)(1) and (f)(2) of this AD.

(1) Modify the forward bonded assembly of the control rod in accordance with Avions de Transport Regional Service Bulletin ATR42-55-0009, dated July 12, 2002.

(2) Perform a detailed inspection for correct installation of the fastener that attaches the ground braids on the elevator, in accordance with Avions de Transport Regional Service Bulletin ATR42-55-0010, Revision 1, dated March 11, 2003. Correct any discrepancies before further flight in accordance with the service bulletin. Inspections and corrective action done before the effective date of this AD in accordance with Avions de Transport Regional Service Bulletin ATR42-55-0010, dated July 12, 2002, are acceptable for compliance with this paragraph.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Alternative Methods of Compliance (AMOCs)

(g) The Manager, International Branch, ANM-116, Transport Airplane Directorate, FAA, has the authority to approve AMOCs for this AD, if requested in accordance with the procedures found in 14 CFR 39.19.

Related Information

(h) French airworthiness directive 2002-431(B), dated August 21, 2002, also addresses the subject of this AD.

Material Incorporated by Reference

(i) You must use Avions de Transport Regional Service Bulletin ATR42-55-0009, dated July 12, 2002; and Avions de Transport Regional Service Bulletin ATR42-55-0010, Revision 1, dated March 11, 2003; as applicable, to perform the actions that are required by this AD, unless the AD specifies otherwise. Avions de Transport Regional Service Bulletin ATR42-55-0010, Revision 1, dated March 11, 2003, includes the following list of effective pages:

List of Effective Pages
Page No. | Revision level shown on page | Date shown on page
1, 2, 4-13 | 1 | March 11, 2003.
3 | Original | July 12, 2002.

The Director of the Federal Register approved the incorporation by reference of these documents in accordance with 5 U.S.C. 552(a) and 1 CFR part 51. Contact Aerospatiale, 316 Route de Bayonne, 31060 Toulouse, Cedex 03, France, for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal-register/cfr/ibr-locations.html.

Issued in Renton, Washington, on September 6, 2005.
Kalene C. Yanamura,
Acting Manager, Transport Airplane Directorate, Aircraft Certification Service.

[FR Doc. 05-18061 Filed 9-13-05; 8:45 am]

BILLING CODE 4910-13-P